DEPARTMENT OF TRANSPORTATION

Federal Railroad Administration

[Docket No. FRA-2006-25169, Notice No. 1]

Hazardous Materials: Improving the Safety of Railroad Tank Car Transportation of Hazardous Materials

AGENCY: Federal Railroad Administration (FRA), Department of Transportation (DOT).

ACTION: Notice of establishment of public docket; notice of availability.

SUMMARY: FRA and the Pipeline and Hazardous Materials Safety Administration (PHMSA), operating administrations of DOT, have initiated a comprehensive review of design and operational factors that affect the safety of railroad tank car transportation of hazardous materials. In order to facilitate public involvement in this review, FRA and PHMSA held a public meeting on May 31 and June 1, 2006, and FRA has established a public docket to provide all interested parties with a central location to both send and review relevant information concerning improving the safety of railroad tank car transportation of hazardous materials. The docket established for this purpose is designated Docket No. FRA-2006-25169. A copy of the transcript of the May 31 and June 1, 2006 public meeting is available in the docket.

ADDRESSES: The public is invited to submit both relevant information and relevant comments to the docket. Written submissions should refer to the docket number of this notice (Docket No. FRA-2006-25169) and may be submitted by any of the following methods:

Web site: http://dms.dot.gov. Follow the instructions for submitting comments on the DOT electronic docket site.

Fax: 202-493-2251.

Mail: Docket Management Facility, U.S. Department of Transportation, 400 Seventh Street, SW., Nassif Building, Room PL-401, Washington, DC 20590-001.

Hand Delivery: Docket Management Facility, Room PL-401 on the Plaza level of the Nassif Building, 400 Seventh Street, SW., Washington, DC, between 9 a.m. and 5 p.m., Monday through Friday, except Federal Holidays.

SUPPLEMENTARY INFORMATION: The Secretary of Transportation (Secretary) has authority over all areas of railroad safety (49 U.S.C. 20101 et seq.), and has delegated this authority to FRA. FRA has issued a comprehensive set of Federal regulations governing the safety of all facets of freight and passenger railroad operations (49 CFR parts 200-244). FRA also conducts research and development to enhance railroad safety. The Secretary is also responsible for “prescrib[ing] regulations for the safe transportation, including security, of hazardous material in intrastate, interstate, and foreign commerce.” 49 U.S.C. 5103. The Secretary has delegated this authority to PHMSA. FRA inspects railroads and shippers for compliance with both FRA railroad safety regulations and PHMSA regulations governing the transportation of hazardous materials in commerce.

As detailed in PHMSA's “Notice of public meeting” published on May 24, 2006 (71 FR 30019), in the last several years, there have been a number of railroad accidents which resulted in hazardous material releases from tank cars. 71 FR at 30020. As noted in the May 24, 2006 notice, some of these accidents are of particular concern because they involved materials that were poisonous or toxic by inhalation (TIH materials). Id. In addition, several other railroad accidents have occurred in recent years that, while not involving TIH materials, also involve the breach of railroad tank cars containing DOT regulated hazardous materials. These accidents include tank car failures at Eunice, LA (May 27, 2000), Council Bluffs, IA (October 8, 2004), Milford, UT (January 12, 2005), Creighton, PA (February 2, 2005) and Cleveland, OH (January 27, 2006). A primary causative factor of each of these accidents (those involving TIH materials and those involving other than TIH materials) was railroad operations, a failed tank structure, or a combination of the two.

FRA and PHMSA have initiated a comprehensive review of design and operational factors that affect the safety of railroad tank car transportation of hazardous materials. As noted in the May 24, 2006 notice, this review will not consider security issues. Id. PHMSA and FRA have been working closely with the Transportation Security Administration of the Department of Homeland Security, on developing proposed regulations to enhance the security of rail shipments of hazardous materials. These regulatory proposals will be issued in separate proceedings open to public comment as appropriate in the future.

In order to facilitate public involvement in DOT's comprehensive review of the safety of railroad tank car transportation of hazardous materials, PHMSA and FRA invited interested persons to participate in a public meeting in Washington, DC on May 31 and June 1, 2006 to share concerns and comments related to the safe transportation of hazardous materials in tank cars. In order to facilitate further public involvement, FRA has established a docket to provide interested parties with a central location to both send and review relevant information concerning the safety of railroad tank car transportation of hazardous materials. The docket established for this purpose is designated Docket No. FRA-2006-25169. The information submitted to the docket will aid FRA and/or PHMSA in determining whether future rulemakings will be necessary to improve the safety of railroad tank car transportation of hazardous materials. A copy of the transcript of the May 31 and June 1, 2006 public meeting is available for review in the docket. Also included in the docket is a copy of the June 13, 2006 written statement of the FRA Administrator before the House Subcommittee on Railroads concerning current issues in rail transportation of hazardous materials. The Administrator's testimony discusses hazardous material releases and steps FRA is taking to improve the safety of the rail movement of hazardous materials. The public is invited to submit both information and comments relevant to DOT's comprehensive review of the safety of railroad tank car transportation of hazardous materials to the docket identified in this notice.

Privacy

Anyone is able to search all comments received into any of our dockets by the name of the individual submitting the comment (or signing the comment, if submitted on behalf of an association, business, labor union, etc.). You may review DOT's complete Privacy Act Statement in the Federal Register published on April 11, 2000 (Volume 665, Number 7, Pages 19477-78). The statement may also be found at http://dms.dot.gov.

Issued in Washington, DC on June 28, 2006.
Jo Strang,
Associate Administrator for Safety.

[FR Doc. E6-10371 Filed 6-30-06; 8:45 am]

BILLING CODE 4910-06-P